DEPARTMENT OF THE INTERIOR

DEPARTMENT OF TRANSPORTATION

National Park Service

Federal Aviation Administration

Membership in the National Parks Overflights Advisory Group

AGENCY: National Park Service, Interior, and Federal Aviation Administration, Transportation.

ACTION: Notice.

SUMMARY: The National Park Service (NPS) and Federal Aviation Administration (FAA) in accordance with the National Parks Air Tour Management Act of 2000; established the National Parks Overflights Advisory Group (NPOAG). The NPOAG was formed to provide continuing advice and counsel with respect to commercial air tour operations over and near national parks. This notice informs the public of the addition of three new members to the NPOAG.

FOR FURTHER INFORMATION CONTACT: Howard Nesbitt, Flight Standards Service, Federal Aviation Administration, 800 Independence Ave., SW., Washington, DC 20591, telephone: (202) 493-4981, or Marvin Jensen, Soundscapes Office, National Park Service, 1201 Oak Ridge Drive, Suite 200, Ft. Collins, Colorado, 80525, telephone: (970) 225-3563.

SUPPLEMENTARY INFORMATION: The National Parks Air Tour Management Act of 2000 (the Act) was enacted on April 5, 2000, as Public Law 106-181. The Act required the establishment of the advisory group within 1 year after its enactment. The advisory group is comprised of a balanced group of representatives of general aviation, commercial air tour operations, environmental concerns, and Native American tribes.

The advisory group provides “advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Members of the advisory group may be allowed certain travel expenses as authorized by section 5703 of title 5, United States Code, for intermittent Government service.

An initial assignment was made to the group of seven members representing aviation, environmental and Native American cultural interests: Chip Dennerlein and Charles Maynard (environmental), Andy Cebula and Joe Corrao (aviation) and Germaine White (Native American). (See 66 FR 32974; June 19, 2001.) At the first meeting of the NPOAG, on August 28, 2001, the group decided that the addition of three new members would achieve a better balance of interests representing the group. The additional members would represent fixed wing air tour operators, environmental interests and Native American cultural interests.

By Federal Register notice of September 25, 2001, the FAA and NPS invited members of the public from the desired areas and interested in serving on the advisory group, to contact either the FAA or NPS contact person. Five persons expressed an interest in serving on the NPOAG in addition to the original names submitted earlier when the group was formed. The FAA and NPS have selected three persons to serve as additional members of the NPOAG: Alan Stephens will represent aviation interests, in particular those of fixed-wing operators; Richard Deertrack will represent Native American interests; and Susan Gunn will represent environmental interests. There are now a total of 10 members of the NPOAG.

The next meeting of the NPOAG is being planned for late 2001.

Issued in Washington, DC, on October 24, 2001.
Louis C. Cusimano,
Acting Director, Flight Standards Service.

[FR Doc. 01-27294 Filed 10-29-01; 8:45 am]

BILLING CODE 4910-13-M